DEPARTMENT OF THE INTERIOR

Bureau of Land Management

[CO-930; COC-48469]

Public Land Order No. 7485; Extension of Public Land Order No. 6846; CO

AGENCY: Bureau of Land Management, Interior.

ACTION: Public land order.

SUMMARY: This order extends Public Land Order No. 6846 for an additional 10-year period. This extension is necessary to continue the protection of the Wild and Scenic River values in the South Platte River. These lands have been and will remain open to mineral leasing.

EFFECTIVE DATE: April 12, 2001.

FOR FURTHER INFORMATION CONTACT: Doris E. Chelius, BLM Colorado State Office, 2850 Youngfield Street, Lakewood, Colorado 80215-7093, 303-239-3706.

By virtue of the authority vested in the Secretary of the Interior by Section 204 of the Federal Land Policy and Management Act of 1976, 43 U.S.C. 1714 (1994), it is ordered as follows:

1. Public Land Order No. 6846, which withdrew National Forest System lands to protect the Wild and Scenic River values in a 9-mile segment of the South Platte River corridor, is hereby extended for an additional 10-year period following its date of expiration.

2. This withdrawal will expire 10 years from the effective date of this order unless, as a result of a review conducted prior to the expiration date pursuant to Section 204(f) of the Federal Land Policy and Management Act of 1976, 43 U.S.C. 1714(f) (1994), the Secretary determines that the withdrawal shall be extended.

Dated: April 12, 2001.
Gale A. Norton,
Secretary of the Interior.

[FR Doc. 01-11739 Filed 5-9-01; 8:45 am]

BILLING CODE 3410-11-P